DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Census 2000 Evaluation: Survey of Partners.

Form Number(s): D-1401, D-1401A(L), D-1401.F1(L), D-1401.F2(L), D-1401A(E), D-1401.1(E), D-1401(E).

Agency Approval Number: None.

Type of Request: New collection.

Burden: 5,333 hours.

Number of Respondents: 16,000.

Avg Hours Per Response: 20 minutes.

Needs and Uses: The Census 2000 Partnership Program works to establish partnerships with State, local and tribal governments; private industry; local governments and community groups. The goal is to increase the awareness of the census and to increase response rates, especially among historically undercounted populations.

The program has both a national and a regional focus. On the national level, the program is designed to implement promotional activities that may be sponsored and/or supported by national/umbrella government and nongovernmental organizations. In addition, the Census Bureau will partner with Fortune 500 companies to promote the importance of the census through the services and products they provide.

The regional partnership program reflects the Census Bureau's belief that the foundation for broad-based participation in the census must be built at the community level. Its primary purpose is to establish partnerships with state, local, and tribal governments; community organizations; businesses and the media.

This request is for clearance of an evaluation of that partnership program to be carried out via an information collection. A contractor will survey a sample of partners through self-administered questionnaires. The questionnaire will ask the partners about the effectiveness of the marketing campaign and the partnership activities in motivating their constituents to complete and mail back their census questionnaires. The results will be used to evaluate the program, for 2010 planning purposes and to improve future census operations.

Affected Public: Businesses or other for-profit organizations, Not-for-profit organizations, Federal Government, State, Local or tribal Government.

Frequency: One-time.

Respondent's Obligation: Voluntary.

Legal Authority: Title 13 USC, sections 141 and 193.

OMB Desk Officer: Susan Schechter, (202) 395-5103.

Copies of the above information collection proposal can be obtained by calling or writing Linda Engelmeier, DOC Forms Clearance Officer, (202) 482-3272, Department of Commerce, room 5033, 14th and Constitution Avenue, NW., Washington, DC 20230 (or via the Internet at LEngelme@doc.gov).

Written comments and recommendations for the proposed information collection should be sent within 30 days of publication of this notice to Susan Schechter, OMB Desk Officer, room 10201, New Executive Office Building, Washington, DC 20503.

Dated: May 5, 2000.
Madeleine Clayton,
Management Analyst, Office of the Chief Information Officer.

[FR Doc. 00-11698 Filed 5-9-00; 8:45 am]

BILLING CODE 3510-07-P